DEPARTMENT OF TRANSPORTATION

Office of the Secretary

Notice of Applications for Certificates of Public Convenience and Necessity and Foreign Air Carrier Permits Filed Under Subpart B (formerly Subpart Q) During the Week Ending June 28, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0109.

Date Filed: June 23, 2014.

Due Date for Answers, Conforming Applications, or Motion to Modify Scope: July 14, 2014.

Description: Application of Seaport Airlines, Inc. requesting a certificate of public convenience and necessity to engage in foreign scheduled air transportation of persons, property and mail between the United States and Mexico.

Docket Number: DOT-OST-2014-0111.

Date Filed: June 24, 2014.

Due Date for Answers, Conforming Applications, or Motion to Modify Scope: July 14, 2014.

Description: Application of Silk Way West Airlines requesting a foreign air carrier permit and an exemption to engage in (1) scheduled air transportation of cargo between any point or points in Azerbaijan, via intermediate points, and any point or points in the United States; and (2) charter air transportation of cargo between any point or points in Azerbaijan and any point or points in the United States, as well as any point or points in the United States and any point or points in a third country or countries subject to pertinent national, bilateral and international rules and regulations.

Docket Number: DOT-OST-2014-0114.

Date Filed: June 25, 2014.

Due Date for Answers, Conforming Applications, or Motion to Modify Scope: July 16, 2014.

Description: Application of Aerodynamics Incorporated requesting a certificate of public convenience and necessity to engage in scheduled interstate air transportation of persons, property and mail.

Barbara J. Hairston,
Supervisory Dockets Officer, Docket Operations, Federal Register Liaison.

[FR Doc. 2014-18464 Filed 8-4-14; 8:45 am]

BILLING CODE 4910-9X-P